COMMISSION OF FINE ARTS

Notice of Meeting

The next meeting of the U.S. Commission of Fine Arts is scheduled for 17 July 2008, at 10 a.m. Due to the closure of the National Building Museum that morning, the meeting will convene at 10 a.m. in the boardroom of the National Capital Planning Commission, 401 9th Street, NW., Suite 500, Washington, DC 20576, for the presentation and review of the National Capital Framework Plan. Following this presentation, the Commission meeting will reconvene at 12 noon in the Commission's offices in the National Building Museum, Suite 312, Judiciary Square, 401 F Street, NW., Washington, DC 20001-2728. Items of discussion may include buildings, parks, and memorials.

Draft agendas and additional information regarding the Commission are available on our Web site: http://www.cfa.gov. Inquiries regarding the agenda and requests to submit written or oral statements should be addressed to Thomas Luebke, Secretary, U.S. Commission of Fine Arts, at the above address, or call 202-504-2200. Individuals requiring sign language interpretation for the hearing impaired should contact the Secretary at least 10 days before the meeting date.

Dated in Washington, DC, 27 June 26, 2008.
Thomas Luebke,
Secretary.

[FR Doc. E8-15186 Filed 7-7-08; 8:45 am]

BILLING CODE 6330-01-M